DEPARTMENT OF HOMELAND SECURITY

Federal Emergency Management Agency

[Docket ID: FEMA-2022-0036; OMB No. 1660-0083]

Agency Information Collection Activities: Submission for OMB Review, Comment Request; Application for Community Disaster Loan (CDL) Program

AGENCY: Federal Emergency Management Agency, Department of Homeland Security.

ACTION: 30 Day notice of revision and request for comments.

SUMMARY: The Federal Emergency Management Agency (FEMA) will submit the information collection abstracted below to the Office of Management and Budget for review and clearance in accordance with the requirements of the Paperwork Reduction Act of 1995. The submission will describe the nature of the information collection, the categories of the respondents, the estimated burden (i.e., the time, effort and resources used by respondents to respond) and cost, and the actual data collection instruments FEMA will use.

DATES: Comments must be submitted on or before March 24, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address: FEMA-Information-Collections-Management@fema.dhs.gov or Martha Castro, Program Manager, FEMA at 202-212-5761 or Martha.Castro@fema.dhs.gov.

SUPPLEMENTARY INFORMATION: The information collection is required for Community Disaster Loan (CDL) Program eligibility determinations, CDL management, and compliance with other federal laws and regulations. The CDL Program is authorized by section 417 of the Robert T. Stafford Disaster Relief and Emergency Assistance Act (Pub. L. 93-288, as amended, 42 U.S.C. 5184) and implementing regulations at 44 CFR part 206, subpart K. FEMA may make a CDL to any local government which has suffered a substantial loss of tax or other revenues, as a result of a major disaster or emergency, and which demonstrates a need for Federal financial assistance to perform its governmental functions.

The CDL must be justified on the basis of need and be based on the actual and projected expenses, as a result of the disaster, for the fiscal year in which the disaster occurred and the three succeeding fiscal years. FEMA has the authority to cancel repayment of all or part of these CDLs to the extent that a determination is made that revenues of the local government during the three fiscal years following the disaster are insufficient to meet the operating budget of that local government because of disaster related revenue losses and additional unreimbursed disaster-related municipal operating expenses.

FEMA reviewed the forms included in this collection and found that FEMA Form 090-0-4 (Letter of Application) presented difficulties for the local governments. FEMA found a simpler way to fulfill the regulatory requirement by using a template letter. Therefore, FEMA Form 090-0-4 (Letter of Application) will no longer be part of this collection.

This proposed information collection previously published in the Federal Register on November 15, 2022, at 87 FR 68513 with a 60-Day public comment period. FEMA received two comments.

The first comment suggested simplifying the CDL application. To minimize both effort and time required to complete this loan application, the CDL Program has simplified the application process and paperwork to the least amount of effort possible. Additionally, the CDL Program assists local governments through the entire process, even post loan issuance. Once information has been obtained from the potential applicant, the CDL Program completes a financial analysis, fills forms, and then provides the pre-filled forms to the applicants for them to read, print, and sign.

The second comment received suggested not using Federal tax-payer dollars to rebuild in known hazard areas. By statute, FEMA is authorized to provide financial assistance for local governments to cover operational expenses. Local governments cannot use the financial assistance for capital improvements. Rebuilding is considered a capital expense and therefore an ineligible use of these CDL funds. Relocation is also an ineligible use of the loaned funds. The CDL Program validates that loans were used only for eligible uses.

The purpose of this notice is to notify the public that FEMA will submit the information collection abstracted below to the Office of Management and Budget for review and clearance.

Collection of Information

Title: Application for Community Disaster Loan (CDL) Program.

Type of Information Collection: Extension, with change, of a currently approved information collection.

OMB Number: 1660-0083.

FEMA Forms: FEMA Form FF-104-FY-22-223 (formerly 090-0-1), Certification of Eligibility for Community Disaster Loans; FF-104-FY-22-224 (formerly 116-0-1), Promissory Note; FF-104-FY-22-225 (formerly 085-0-1), Local Government Resolution—Collateral Security; FF-104-FY-22-226 (formerly 112-0-3C), Certifications Regarding Lobbying, Debarment, Suspension and Other Responsibility Matters, and Drug-Free Workplace Requirements; FF-104-FY-22-227 (formerly 009-0-15), Application for Loan Cancellation.

Abstract: The loan package for the CDL Program provides local governments that have suffered substantial loss of tax or other revenues as a result of a major disaster, the opportunity to obtain financial assistance in order to perform their governmental functions. The loan must be justified on the basis of need and actual expenses.

Affected Public: State, local, or Tribal government.

Estimated Number of Respondents: 260.

Estimated Number of Responses: 260.

Estimated Total Annual Burden Hours: 552.

Estimated Total Annual Respondent Cost: $25,800.

Estimated Respondents' Operation and Maintenance Costs: 0.

Estimated Respondents' Capital and Start-Up Costs: 0.

Estimated Total Annual Cost to the Federal Government: $1,061,916.

Comments

Comments may be submitted as indicated in the ADDRESSES caption above. Comments are solicited to (a) evaluate whether the proposed data collection is necessary for the proper performance of the agency, including whether the information shall have practical utility; evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-03612 Filed 2-21-23; 8:45 am]

BILLING CODE 9111-24-P